COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete products from the Procurement List that were previously furnished by nonprofit agencies employing persons who are blind or have other severe disabilities.

DATES: Comments must be received on or before February 4, 2018.

ADDRESSES: Committee for Purchase From People Who Are Blind or Severely Disabled, 1401 S. Clark Street, Suite 715, Arlington, Virginia, 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products are proposed for deletion from the Procurement List:

Products

NSN—Product Name:

3920-00-000-8908—Shelf Assembly, Top

Mandatory Source of Supply: Rauch, Inc., New Albany, IN

Contracting Activity: USPS, Topeka Purchasing Center

NSN(s)—Product Name(s):

8455-00-NSH-0001—Logo, BDU Coat and Shirt

8455-00-NSH-0002—Logo, BDU Coat and Shirt

Mandatory Source of Supply: Southeastern Kentucky Rehabilitation Industries, Inc., Corbin, KY

Contracting Activity: Defense Logistics Agency Troop Support

Amy B. Jensen,
Director, Business Operations.

[FR Doc. 2018-00010 Filed 1-4-18; 8:45 am]

BILLING CODE 6353-01-P